DEPARTMENT OF ENERGY

Federal Energy Regulatory Commission

Combined Notice of Filings #1

Take notice that the Commission received the following electric rate filings:

Docket Numbers: ER10-2179-017; ER10-2181-017; ER10-2182-017.

Applicants: Calvert Cliffs Nuclear Power Plant, LLC, Nine Mile Point Nuclear Station, LLC, R.E. Ginna Nuclear Power Plant, LLC.

Description: Notice of Non-Material Change in Status of Calvert Cliffs Nuclear Power Plant, LLC, et. al.

Filed Date: 3/8/13.

Accession Number: 20130308-5085.

Comments Due: 5 p.m. e.t. 3/29/13.

Docket Numbers: ER10-2367-003.

Applicants: Sycamore Cogeneration Company.

Description: MBR Compliance Filing to be effective 12/17/2012.

Filed Date: 3/7/13.

Accession Number: 20130307-5115.

Comments Due: 5 p.m. e.t. 3/28/13.

Docket Numbers: ER12-1418-000.

Applicants: TC Ravenswood, LLC.

Description: TC Ravenswood's Letter to FERC requesting Commission to defer taking further action in this proceeding.

Filed Date: 3/7/13.

Accession Number: 20130307-5081.

Comments Due: 5 p.m. e.t. 3/22/13.

Docket Numbers: ER12-2178-005; ER10-2172-016; ER12-2311-005; ER11-2016-011; ER10-2184-016; ER10-2183-013; ER10-1048-013; ER10-2176-017; ER10-2192-016; ER11-2056-010; ER10-2178-016; ER10-2174-016; ER11-2014-013; ER11-2013-013; ER10-3308-015; ER10-1020-012; ER10-1145-012; ER10-1144-011; ER10-1078-012; ER10-1080-012; ER11-2010-013; ER10-1081-012; ER10-2180-016; ER11-2011-012; ER12-2201-005; ER12-2528-004; ER11-2009-012; ER11-3989-010; ER10-1143-012; ER11-2780-010; ER12-1829-005; ER11-2007-011; ER12-1223-010; ER11-2005-013.

Applicants: AV Solar Ranch 1, LLC, Baltimore Gas and Electric Company, Beebe Renewable Energy, LLC, Cassia Gulch Wind Park, CER Generation II, LLC, CER Generation, LLC, Commonwealth Edison Company, Constellation Energy Commodities Group Maine, LLC, Constellation Energy Commodities Group, Inc., Constellation Mystic Power, LLC, Constellation NewEnergy, Inc., Constellation Power Source Generation LLC, Cow Branch Wind Power, L.L.C., CR Clearing, LLC, Criterion Power Partners, LLC, Exelon Framingham, LLC, Exelon Generation Company, LLC, Exelon New Boston, LLC, Exelon West Medway, LLC, Exelon Wind 4, LLC, Exelon Wyman, LLC, Handsome Lake Energy, LLC, Harvest WindFarm, LLC, Harvest II Windfarm, LLC, High Mesa Energy, LLC, Michigan Wind 1, LLC, Michigan Wind 2, LLC, PECO Energy Company, Safe Harbor Water Power Corporation, Shooting Star Wind Project, LLC, Tuana Springs Energy, LLC, Wildcat Wind, LLC, Wind Capital Holdings, LLC.

Description: Notice of Non-Material Change in Status of AV Solar Ranch 1, LLC, et. al.

Filed Date: 3/8/13.

Accession Number: 20130308-5126.

Comments Due: 5 p.m. e.t. 3/29/13.

Docket Numbers: ER12-2310-002.

Applicants: Zephyr Wind, LLC.

Description: Zephyr Wind, LLC's supplement to January 22, 2013 Notice of Change in Status.

Filed Date: 3/7/13.

Accession Number: 20130307-5196.

Comments Due: 5 p.m. e.t. 3/21/13.

Docket Numbers: ER13-588-002.

Applicants: New York Independent System Operator, Inc.

Description: New York Independent System Operator, Inc. submits tariff filing per 35: NYISO amendment to compliance revisions—interconnection study process to be effective 2/18/2013.

Filed Date: 3/8/13.

Accession Number: 20130308-5125.

Comments Due: 5 p.m. e.t. 3/29/13.

Docket Numbers: ER13-1055-000.

Applicants: California Independent System Operator Corporation.

Description: 2013-03-07 Order 755 Avg Instructed Mileage to be effective 5/1/2013.

Filed Date: 3/7/13.

Accession Number: 20130307-5183.

Comments Due: 5 p.m. e.t. 3/28/13.

Docket Numbers: ER13-1056-000.

Applicants: Northern States Power Company, a Wisconsin corporation.

Description: 2013_03_07_NSPW CRNLL-Op To Purch-Amnd-136 to be effective 1/1/2013.

Filed Date: 3/7/13.

Accession Number: 20130307-5192.

Comments Due: 5 p.m. e.t. 3/28/13.

Docket Numbers: ER13-1057-000.

Applicants: Southern California Edison Company.

Description: SGIA and Distribution Service Agmt with Victor Mesa Linda B to be effective 5/8/2013.

Filed Date: 3/8/13.

Accession Number: 20130308-5000.

Comments Due: 5 p.m. e.t. 3/29/13.

Docket Numbers: ER13-1058-000.

Applicants: Iberdrola Renewables, LLC.

Description: Iberdrola Wind Balancing Service Tariff to be effective 3/29/2013.

Filed Date: 3/8/13.

Accession Number: 20130308-5001.

Comments Due: 5 p.m. e.t. 3/18/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 8, 2013.
Nathaniel J. Davis, Sr.,
Deputy Secretary.

[FR Doc. 2013-05972 Filed 3-14-13; 8:45 am]

BILLING CODE 6717-01-P